DEPARTMENT OF COMMERCE

International Trade Administration

[A-570-831]

Fresh Garlic From the People's Republic of China: Final Results of the Semiannual Antidumping Duty New Shipper Review of Jinxiang Infang Fruit & Vegetable Co., Ltd.

AGENCY: Enforcement and Compliance, International Trade Administration, Department of Commerce.

SUMMARY: The Department of Commerce (Commerce) has conducted a new shipper review (NSR) of Jinxiang Infang Fruit & Vegetable Co., Ltd. (Infang) regarding the antidumping duty order on fresh garlic from the People's Republic of China (China). The period of review (POR) is November 1, 2017 through May 31, 2018. Based on our analysis of the comments received, we continue to find that Infang's sale was a bona fide transaction, and that that sale was made below normal value (NV).

DATES: Applicable November 12, 2019.

FOR FURTHER INFORMATION CONTACT: Alex Cipolla, AD/CVD Operations, Office VII, Enforcement and Compliance, International Trade Administration, U.S. Department of Commerce, 1401 Constitution Avenue NW, Washington, DC 20230; telephone: (202) 482-4956.

SUPPLEMENTARY INFORMATION:

Background

On July 9, 2018, at the request of Infang, Commerce published a notice of initiation of a new shipper review of fresh garlic from China for the period November 1, 2017 through May 31, 2018.¹ On June 13, 2019, Commerce published the preliminary results of this new shipper review.² On August 29, 2019, the deadline for the final results was extended to November 1, 2019.³ On September 19, 2019, Commerce cancelled the planned verification of Infang's responses due to the petitioners' ⁴ withdrawal of their verification request.⁵

¹ See Fresh Garlic from the People's Republic of China: Initiation of Semiannual Antidumping Duty New Shipper Review; 2017-2018, 83 FR 31734 (July 9, 2018); see also Infang's Letter, “Fresh Garlic from the People's Republic of China—Request for New Shipper Review,” dated May 23, 2018.

² See Fresh Garlic from the People's Republic of China: Preliminary Results of the Antidumping Duty New Shipper Review, 84 FR 27585 (June 13, 2019) (Preliminary Results) and accompanying Preliminary Decision Memorandum.

³ See Memorandum, “Fresh Garlic from the People's Republic of China—2017-2018 Semiannual Antidumping Duty New Shipper Review: Extension of Deadline for the Final Results of the Review,” dated August 29, 2019.

⁴ The petitioners are the Fresh Garlic Producers Association (FGPA) and its individual members: Christopher Ranch L.L.C., the Garlic Company, and Valley Garlic.

⁵ See Petitioners' Letter, “27th New Shipper Review of the Antidumping Duty Order on Fresh Garlic from the People's Republic of China—Petitioners' Withdrawal of Request for Verification,” dated August 23, 2019.

A summary of the events that occurred since Commerce published the Preliminary Results, as well as a full discussion of the issues raised by parties for this final determination, are found in the Issues and Decision Memorandum, hereby adopted by this notice.⁶ The Issues and Decision Memorandum is a public document and is on file electronically via Enforcement and Compliance's Antidumping and Countervailing Duty Centralized Electronic Service System (ACCESS). ACCESS is available to registered users at http://access.trade.gov, and it is available to all parties in the Central Records Unit, Room B8024 of the main Commerce building. In addition, a complete version of the Issues and Decision Memorandum can be accessed directly at http://enforcement.trade.gov/frn/. The signed and electronic versions of the Issues and Decision Memorandum are identical in content.

⁶ See Memorandum, “Decision Memorandum for the Final Results of the Semiannual 2017-2018 Antidumping Duty New Shipper Review: Fresh Garlic from the People's Republic of China,” dated November 1, 2019 (Issues and Decision Memorandum).

Scope of the Order

The merchandise covered by this order is all grades of garlic, whether whole or separated into constituent cloves. The subject merchandise is currently classifiable under the Harmonized Tariff Schedule of the United States (“HTSUS”) subheadings: 0703.20.0000, 0703.20.0005, 0703.20.0010, 0703.20.0015, 0703.20.0020, 0703.20.0090, 0710.80.7060, 0710.80.9750, 0711.90.6000, 0711.90.6500, 2005.90.9500, 2005.90.9700, and 2005.99.9700. A full description of the scope of the order is contained in the Issues and Decision Memorandum.⁷ Although the HTSUS subheadings are provided for convenience and customs purposes, the written product description is dispositive.

⁷ See the Issues and Decision Memorandum.

Final Results of New Shipper Review

As explained in the Issues and Decision Memorandum, we continue to find that Infang's sale is bona fide within the meaning of section 751(a)(2)(B)(iv) of the Tariff Act of 1930, as amended (the Act). Commerce continues to find that the following weighted-average dumping margin exists for the period November 1, 2017 through May 31, 2018:

Producer/exporter | Weighted- average dumping margin (dollars per kg)
Producer: Jinxiang Excelink Foodstuffs Co., Ltd | 4.31
Exporter: Jinxiang Infang Fruit & Vegetable Co., Ltd

Analysis of Comments Received

All issues raised in the case and rebuttal briefs are addressed in the Issues and Decision Memorandum. A list of the issues that are raised in the briefs and addressed in the Issues and Decision Memorandum is in the Appendix to this notice.

Cash Deposit Requirements

The following cash deposit requirements will be effective upon publication of the final results of the NSR of Infang for shipments of subject merchandise from China entered, or withdrawn from warehouse, for consumption on or after the publication date, as provided by section 751(a)(2)(C) of the Act. Commerce will instruct U.S. Customs and Border Protection (CBP) to collect the following cash deposits: (1) For subject merchandise produced and exported by the producer and exporter combination listed in the “Final Results of New Shipper Review” section above, the cash deposit rate will be the rate listed above; (2) for subject merchandise exported by Infang, but not produced by Jinxiang Excelink Foodstuffs Co., Ltd., the cash deposit rate will be the rate for the China-wide entity; and (3) for subject merchandise produced by Jinxiang Excelink Foodstuffs Co., Ltd., but not exported by Infang, the cash deposit rate will be the rate applicable to the relevant exporter. These deposit requirements shall remain in effect until further notice.

Assessment Instructions

Pursuant to section 751(a)(2)(C) of the Act, and 19 CFR 351.212(b), Commerce has determined, and CBP shall assess, antidumping duties on all appropriate entries of subject merchandise in accordance with the final results of this review. Commerce intends to issue assessment instructions directly to CBP 15 days after publication of this notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Return or Destruction of Proprietary Information

This notice serves as a reminder to parties subject to administrative protective order (APO) of their responsibility concerning the disposition of business proprietary information disclosed under the APO in accordance with 19 CFR 351.305(a)(3). We request timely written notification of return or destruction of APO materials or conversion to judicial protective order. Failure to comply with the regulations and the terms of an APO is a sanctionable violation.

Notification to Interested Parties

This notice is issued and published in accordance with sections 751(a)(2)(B) and 777(i)(1) of the Act and 19 CFR 351.214.

Dated: November 1, 2019.
Jeffrey I. Kessler,
Assistant Secretary for Enforcement and Compliance.

Appendix—List of Topics Discussed in the Issues and Decision Memorandum

I. Summary

II. Background

III. Scope of the Order

IV. Discussion of the Issues

Comment 1: Whether Romania or Mexico is a Significant Producer of Comparable Merchandise

Comment 2: Whether the Garlic Market in Romania is Distorted

Comment 3: Whether Garlic Grown in Romania or Mexico is of a Comparable Size to Garlic in China

Comment 4: Whether Romania or Mexico Offer the Best Data

V. Recommendation

[FR Doc. 2019-24539 Filed 11-8-19; 8:45 am]

BILLING CODE 3510-DS-P